CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed Alumni Outcomes Survey. The purpose of this survey is to document the long-term civic participation and career pathways of AmeriCorps alumni and help the agency determine whether or not national service members continue to be civically engaged or choose service-oriented careers.

Copies of the information collection request can be obtained by contacting the office listed in the Addresses section of this Notice.

DATES: Written comments must be submitted to the individual and office listed in the ADDRESSES section by January 9, 2015.

ADDRESSES: You may submit comments, identified by the title of the information collection activity, by any of the following methods:

(1) By mail sent to: Corporation for National and Community Service, Office of Research and Evaluation; Attention Diana Epstein, Senior Research Analyst, 10th floor; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Diana Epstein, 202-606-7564, or by email at depstein@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Information will be collected from AmeriCorps alumni through an online survey that will be administered by a contractor on behalf of CNCS. The purpose of the survey is to support CNCS in documenting the long-term civic participation and career pathways of AmeriCorps alumni and to help the agency determine whether or not national service members continue to be civically engaged or choose service-oriented careers. In addition, the agency is interested in exploring whether or not AmeriCorps members are as, or more, likely than those who participate in other types of service to maintain a sense of civic duty and pursue service-oriented careers. This survey is also an opportunity to determine the value of data collected from alumni who are at different life stages following their service year for informing policy and program decisions.

Current Action

This is a new information collection request. Information will be collected from a nationally representative sample of AmeriCorps alumni who served in AmeriCorps NCCC, AmeriCorps VISTA, and AmeriCorps State and National programs and completed their most recent term of service 2, 5, or 10 years ago.

Type of Review: New.

Agency: Corporation for National and Community Service.

Title: Alumni Outcomes Survey.

OMB Number: New.

Agency Number: None.

Affected Public: AmeriCorps alumni.

Total Respondents: 3,465.

Frequency: One time.

Average Time per Response: Averages 20 minutes.

Estimated Total Burden Hours: 1,155.

The desired number of completed surveys is shown in the table below:

AmeriCorps Program
Years since service | State and national | NCCC | VISTA
2 years | 385 | 385 | 385
5 years | 385 | 385 | 385
10 years | 385 | 385 | 385

Total: 3,465.

Total Burden Cost (capital/startup): None.

Total Burden Cost (operating/maintenance): None.

Comments submitted in response to this notice will be summarized and/or included in the request for Office of Management and Budget approval of the information collection request; they will also become a matter of public record.

Date: November 4, 2014.
Stephen Plank,
Office of Research and Evaluation.

[FR Doc. 2014-26540 Filed 11-7-14; 8:45 am]

BILLING CODE 6050-28-P